DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 15, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: Highly Pathogenic Avian Influenza (HPAI); Testing, Surveillance, and Reporting of HPAI in Livestock; Dairy Herd Certification.

OMB Control Number: 0579-0494.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if required to prevent the spread of any livestock or poultry pest or disease. Part of the mission of APHIS' Veterinary Services (VS) business unit is preventing foreign animal disease outbreaks in the United States, and monitoring, controlling, and eliminating a disease outbreak should one occur.

High Path Aviation Influenza (HPAI) is a contagious viral disease of domestic poultry and wild birds, and is deadly to domestic poultry, wiping out entire flocks within a matter of days. It has now been detected in dairy cattle. In April 2024, APHIS published a Federal Order to assist with limiting the spread of H5N1 in dairy cattle.

Need and Use of the Information: The Federal Order requires testing lactating dairy cattle prior to interstate movement and mandatory reporting from laboratories of positive Influenza A cases in livestock. It also requires infected dairy cattle premises to not move lactating dairy cattle interstate for 30 days and to provide epidemiological information, including animal movement tracing, via a questionnaire. Other data collection requirements include inspections and sampling, implementation of biosecurity plans, State response and containment plans, and support agreements. APHIS is working with State and industry partners to encourage farmers and veterinarians to report cattle illnesses quickly so that APHIS can monitor new cases and minimize the impact to farmers, consumers, and other animals.

Description of Respondents: Businesses or other for-profits, State animal health officials.

Number of Respondents: 6,052.

Frequency of Responses: Reporting; On occasion; Quarterly.

Total Burden Hours: 503,000.

Rachelle Ragland-Greene,
Departmental Information Collection Clearance Officer.

[FR Doc. 2024-29554 Filed 12-13-24; 8:45 am]

BILLING CODE 3410-34-P